FEDERAL DEPOSIT INSURANCE CORPORTATION

12 CFR Parts 338 and 343

RIN 3064-AF84

Fair Housing Rule, Consumer Protection in Sales of Insurance Rule; Technical Correction

AGENCY: Federal Deposit Insurance Corporation.

ACTION: Technical correction.

SUMMARY: The Federal Deposit Insurance Corporation (FDIC) is making technical corrections to two regulations to reflect a reorganization and change in the name of its former Consumer Response Center. The new name is the National Center for Consumer and Depositor Assistance (NCDA). The two regulations are the FDIC's Fair Housing Rule and its Consumer Protection in Sales of Insurance Rule.

DATES: Effective August 8, 2022.

FOR FURTHER INFORMATION CONTACT: Alys V. Brown, Attorney, Legal Division, 202-898-3565, alybrown@fdic.gov; Thaddeus J. King, Policy Analyst, Division of Depositor and Consumer Protection, 202-898-3541, thking@fdic.gov.

SUPPLEMENTARY INFORMATION:

Background

The final regulations that are subject to this technical correction are the Fair Housing Rule and the Consumer Protection in Sales of Insurance Rule. The Fair Housing Rule prohibits FDIC-supervised institutions from engaging in discriminatory advertising involving residential real estate-related transactions. The Consumer Protection in Sales of Insurance Rule prohibits certain actions in connection with retail sales practices, solicitations, advertising, or offers of insurance products.

Need for, and Effects of, the Technical Correction

Historically, the FDIC operated two separate offices to handle its consumer assistance and depositor assistance functions, the Consumer Response Center and the Deposit Insurance Section respectively. To improve the efficiency and effectiveness of these offices and better serve consumers and depositors, the FDIC consolidated the two offices under one organization, entitled the National Center for Consumer and Depositor Assistance.

To ensure that consumers have the most up to date information on how to contact the FDIC to submit consumer complaints and deposit insurance inquiries, the FDIC is making technical corrections to 12 CFR part 338 and 12 CFR part 343 to replace references to the “Consumer Response Center” with the “National Center for Consumer and Depositor Assistance,” and to correct web addresses.

This technical correction may benefit some consumers by making it easier for them to contact the FDIC regarding complaints or questions about deposit insurance. The correction does not change any FDIC requirements affecting its supervised institutions.

List of Subjects

12 CFR Part 338

Aged, Banks, banking, Civil rights, Credit, Fair housing, Individuals with disabilities, Marital status discrimination, Mortgages, Religious discrimination, Reporting and recordkeeping requirements, Savings associations, Sex discrimination, Signs and symbols.

12 CFR Part 343

Banks, banking, Consumer protection, Insurance, Savings associations.

Authority and Issuance

For the reasons stated in the preamble, the FDIC amends 12 CFR parts 338 and 343 as follows:

PART 338—FAIR HOUSING

1. The authority citation for part 338 continues to read as follows:

Authority: 12 U.S.C. 1817, 1818, 1819, 1820(b), 2801 et seq.; 15 U.S.C. 1691 et seq.; 42 U.S.C. 3605, 3608; 12 CFR parts 1002, 1003; 24 CFR part 110.

2. Amend § 338.4 by revising paragraph (b) to read as follows:

§ 338.4 Fair Housing Poster.

* * * * *

(b) The Equal Housing Lender Poster shall be at least 11 by 14 inches in size and have the following text:

We Do Business in Accordance with Federal Fair Lending Laws.

UNDER THE FEDERAL FAIR HOUSING ACT, IT IS ILLEGAL, ON THE BASIS OF RACE, COLOR, NATIONAL ORIGIN, RELIGION, SEX, HANDICAP, OR FAMILIAL STATUS (HAVING CHILDREN UNDER THE AGE OF 18) TO:

• Deny a loan for the purpose of purchasing, constructing, improving, repairing or maintaining a dwelling or to deny any loan secured by a dwelling; or

• Discriminate in fixing the amount, interest rate, duration, application procedures, or other terms or conditions of such a loan or in appraising property.

IF YOU BELIEVE YOU HAVE BEEN DISCRIMINATED AGAINST, YOU SHOULD SEND A COMPLAINT TO:

Assistant Secretary for Fair Housing and Equal Opportunity, Department of Housing and Urban Development, Washington, DC 20410.

For processing under the Federal Fair Housing Act

AND TO:

Federal Deposit Insurance Corporation, National Center for Consumer and Deposit Assistance, https://ask.fdic.gov/fdicinformationandsupportcenter.

For processing under the FDIC Regulations.

UNDER THE EQUAL CREDIT OPPORTUNITY ACT, IT IS ILLEGAL TO DISCRIMINATE IN ANY CREDIT TRANSACTION:

• On the basis of race, color, national origin, religion, sex, marital status, or age;

• Because income is from public assistance; or

• Because a right has been exercised under the Consumer Credit Protection Act.

IF YOU BELIEVE YOU HAVE BEEN DISCRIMINATED AGAINST, YOU SHOULD SEND A COMPLAINT TO:

Federal Deposit Insurance Corporation, National Center for Consumer and Deposit Assistance, https://ask.fdic.gov/fdicinformationandsupportcenter.

* * * * *

PART 343—CONSUMER PROTECTION IN SALES OF INSURANCE

3. The authority citation for part 343 continues to read as follows:

Authority: 12 U.S.C. 1819 (Seventh and Tenth), 1831x.

4. Revise appendix A to part 343 to read as follows:

Appendix A to Part 343—Consumer Grievance Process

Any consumer who believes that any institution or any other person selling, soliciting, advertising, or offering insurance products or annuities to the consumer at an office of the institution or on behalf of the institution has violated the requirements of this part should contact the Division of Depositor and Consumer Protection, National Center for Consumer and Deposit Assistance, Federal Deposit Insurance Corporation, 1100 Walnut Street, Box #11, Kansas City, MO 64106, or telephone 1-877-275-3342, or FDIC Electronic Customer Assistance Form at https://ask.fdic.gov/fdicinformationandsupportcenter.

Federal Deposit Insurance Corporation.
Dated at Washington, DC, on August 3, 2022.
James P. Sheesley,
Assistant Executive Secretary.

[FR Doc. 2022-16961 Filed 8-5-22; 8:45 am]

BILLING CODE 6714-01-P